DEPARTMENT OF AGRICULTURE

Forest Service

Information Collection; National Visitor Use Monitoring

AGENCY: Forest Service, Agriculture (USDA).

ACTION: Notice; request for comment.

SUMMARY: In accordance with the Paperwork Reduction Act of 1995, the Forest Service (Forest Service or Agency) is requesting public comment on reapproval and proposed revisions of an approved information collection request (ICR), 0596-0110, National Visitor Use Monitoring.

DATES: Comments on reapproval and the proposed revisions of the ICR must be received in writing by January 28, 2025.

ADDRESSES: Comments may be sent to Dr. Sarah Cline, Mail Stop 1125, Forest Service, USDA, P.O. Box 96090, Washington, DC 20090-6090. Comments also may be submitted via email to sarah.cline@usda.gov. Comments submitted in response to this notice will be available to the public through relevant websites and upon request. Therefore, do not include confidential information, such as sensitive personal information or proprietary information. An email address associated with a comment will be included with the comment when it is made publicly available online.

The public may inspect the supporting statements for the ICR and comments received at 201 14th Street SW, Washington, DC 20250, Suite 2nd Floor Southwest, on business days between 8:30 a.m. and 4:00 p.m. Visitors are encouraged to call ahead at 202-205-0444 to facilitate entry into the building. The public may request an electronic copy of the supporting statements and comments via return email. Requests should be emailed to sarah.cline@usda.gov.

FOR FURTHER INFORMATION CONTACT: Dr. Sarah Cline, Recreation, Heritage, and Volunteer Resources staff, at 202-734-9686 or sarah.cline@usda.gov. Individuals who use telecommunications devices for the deaf and hard of hearing may call 711 to reach the Telecommunications Relay Service, 24 hours a day, every day of the year, including holidays.

SUPPLEMENTARY INFORMATION:

Title: National Visitor Use Monitoring.

OMB Number: 0596-0110.

Expiration Date of Approval: February 28, 2025.

Type of Request: Reapproval and proposed revisions of an approved ICR.

Abstract: The Government Performance and Results Act of 1993 requires that Federal agencies establish measurable goals and monitor their success at meeting those goals. Two of the items the Forest Service must measure are (1) the number of visits that occur on National Forest System lands for recreation and other purposes; and (2) the views and satisfaction levels of recreation visitors to National Forest System lands regarding the recreational services, facilities, and settings they experience. The Agency receives requests for this kind of information from a variety of organizations, including Congressional staffs, newspapers, magazines, and recreation trade organizations.

The data from this ICR provide vital information for strategic planning efforts, decisions regarding allocation of resources, and revisions of Forest Service land management plans. The data provide managers with reliable estimates of the number of visitors recreating in an Agency administrative unit, recreational activities conducted by those visitors, visitor satisfaction, and visitor needs, trends, and desires. The information obtained from the ICR helps identify recreation markets, as well as the contributions made to local economies by visitors' spending on recreational activities on National Forest System lands. The information is collected over a five-year to align with Agency land management planning and other data collection and reporting.

At developed recreation sites or access points, Agency personnel or contractors conduct interviews with visitors as they complete their visit. Interviewers ask about the purpose and length of the visit, the origin of the trip, the composition of the visitor's party, and the visitor's annual visitation rates, activities during the visit, trip-related spending patterns, use of recreational facilities, and satisfaction with Agency services and facilities. Primary analysis of the information collected is performed by staff in the Agency's Washington Office and by scientists in one or more of the Agency's research stations. The Forest Service is proposing to revise the list of survey questions to reflect recently updated Office of Management and Budget guidance on questions related to race, ethnicity, and gender identity. The Agency is also proposing to add questions about veteran and retirement status and special uses. The Forest Service is also proposing to provide a full Spanish translation of the survey.

Estimated Annual Burden per Response: 10 minutes.

Type of Respondents: Visitors to National Forest System lands.

Estimated Annual Number of Respondents: 45,000.

Estimated Annual Number of Responses per Respondent: 1.

Estimated Total Annual Burden on Respondents: 5,870 hours.

Comment is invited on (1) whether the collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the package submitted to the Office of Management and Budget for reapproval of the ICR as revised.

Jacqueline Emanuel,
Associate Deputy Chief, National Forest System.

[FR Doc. 2024-27884 Filed 11-27-24; 8:45 am]

BILLING CODE 3411-15-P